DEPARTMENT OF COMMERCE

Foreign-Trade Zones Board

[B-64-2013]

Foreign-Trade Zone 277—Western Maricopa County, Arizona; Schoeller Arca Systems, Inc. (Plastic Containers Production); Goodyear, Arizona

On June 13, 2013, the Greater Maricopa Foreign Trade Zone, Inc., grantee of FTZ 277, submitted a notification of proposed production activity to the Foreign-Trade Zones (FTZ) Board on behalf of Schoeller Arca Systems, Inc., in Goodyear, Arizona.

The notification was processed in accordance with the regulations of the FTZ Board (15 CFR part 400) including notice in the Federal Register inviting public comment (78 FR 39707,07/02/2013). Pursuant to Section 400.37, the FTZ Board has determined that further review is warranted and has not authorized the proposed activity. If the applicant wishes to seek authorization for this activity, it will need to submit an application for production authority, pursuant to Section 400.23.

Dated: October 28, 2013.
Andrew McGilvray,
Executive Secretary.

[FR Doc. 2013-26372 Filed 11-1-13; 8:45 am]

BILLING CODE 3510-DS-P